DEPARTMENT OF ENERGY

10 CFR Parts 429 and 431

[EERE-2019-BT-STD-0018]

RIN 1904-AE12

Energy Conservation Program: Energy Conservation Standards for Distribution Transformers, Webinar and Availability of the Preliminary Technical Support Document

AGENCY: Office of Energy Efficiency and Renewable Energy, Department of Energy.

ACTION: Reopening of public comment period.

SUMMARY: On August 27, 2021, the U.S. Department of Energy (“DOE”) published a notification of a webinar and availability of preliminary technical support document that DOE conducted for purposes of evaluating energy conservation standards for distribution transformers. The notification provided an opportunity for submitting written comments, data, and information by November 10, 2021. DOE received requests from Cleveland-Cliffs Steel Corporation (Cleveland-Cliffs) and the National Electrical Manufacturers Association (NEMA) asking DOE for a 30-day extension of the public comment period. DOE has reviewed this request and is reopening the public comment period to allow public comments to be submitted until December 10, 2021.

DATES: The comment period for the RFI published on August 27, 2021 (86 FR 48058) is reopened. DOE will accept comments, data, and information regarding this notification received no later than December 10, 2021.

ADDRESSES: Interested persons are encouraged to submit comments using the Federal eRulemaking Portal at www.regulations.gov. Follow the instructions for submitting comments. Alternatively, interested persons may submit comments, identified by docket number EERE-2019-BT-STD-0018, by any of the following methods:

1. Federal eRulemaking Portal: www.regulations.gov. Follow the instructions for submitting comments.

2. Email: To DistributionTransfromers2019STD0018@ee.doe.gov. Include docket number EERE-2019-BT-STD-0018 in the subject line of the message.

No telefacsimiles (“faxes”) will be accepted.

Although DOE has routinely accepted public comment submissions through a variety of mechanisms, including the Federal eRulemaking Portal, email, postal mail, or hand delivery/courier, the Department has found it necessary to make temporary modifications to the comment submission process in light of the ongoing Covid-9 pandemic. DOE is currently suspending receipt of public comments via postal mail and hand delivery/courier. If a commenter finds that this change poses an undue hardship, please contact Appliance Standards Program staff at (202) 586-1445 to discuss the need for alternative arrangements. Once the Covid-19 pandemic health emergency is resolved, DOE anticipates resuming all of its regular options for public comment submission, including postal mail and hand delivery/courier.

Docket: The docket for this activity, which includes Federal Register notices, comments, public meeting transcripts, and other supporting documents/materials, is available for review at www.regulations.gov. All documents in the docket are listed in the www.regulations.gov index. However, some documents listed in the index, such as those containing information that is exempt from public disclosure, may not be publicly available.

The docket web page can be found at www.regulations.gov/docket?D=EERE-2019-BT-STD-0018. The docket web page contains instructions on how to access all documents, including public comments in the docket.

FOR FURTHER INFORMATION CONTACT:

Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Mr. Matthew Ring, U.S. Department of Energy, Office of the General Counsel, GC-33, 1000 Independence Avenue SW, Washington, DC 20585-0121. Telephone: (202) 586-2555. Email: matthew.ring@hq.doe.gov.

For further information on how to submit a comment or review other public comments and the docket contact the Appliance and Equipment Standards Program staff at (202) 287-1445 or by email: ApplianceStandardsQuestions@ee.doe.gov.

SUPPLEMENTARY INFORMATION: On August 27, 2021, DOE published a notification announcing the availability of a technical support document and notification of a webinar on the preliminary analysis that DOE conducted for purposes of evaluating energy conservation standards for distribution transformers. 86 FR 48058. This webinar was held on September 29, 2021 and covered the analytical framework, models, and tools that DOE is using to evaluate potential standards for this equipment; the results of preliminary analyses performed by DOE for this equipment; the potential energy conservation standard levels derived from these analyses that DOE could consider for this product should it determine that proposed amendments are necessary; and any issues relevant to the evaluation of energy conservation standards for distribution transformers. In addition, the notification announced that DOE will be accepting written comments on these subjects on or before, November 10, 2021.

On October 29, 2021, NEMA requested a 30-day extension of the public comment period for this preliminary analysis. NEMA commented that given the volume of DOE analysis and number of questions posted, more time is needed to gather NEMA members together and prepare detailed industry responses. NEMA stated that manufacturers continue to face challenges in their businesses during the continued global pandemic and other supply chain disruptions and that more time will give greater opportunity to research and communicate accurate data and responses. (NEMA, No. 43 at p. 1) ¹

¹ The parenthetical reference provides a reference for information located in DOE's rulemaking docket. (Docket No. EERE-2019-BT-STD-0018, which is maintained at www.regulations.gov/docket/EERE-2019-BT-STD-0018). The references are arranged as follows: (Commenter name, comment docket ID number, page of that document).

Cleveland-Cliffs also requested a 30-day extension of the public comment period for this preliminary analysis on November 5, 2021. Cleveland-Cliffs stated in their request that they are the only company in North America that procures Grain Oriented Electrical Steel, which is a critical and irreplaceable material used in distribution and dry-type transformers. Cleveland Cliff explained in their request that the preliminary analysis and technical support document is comprehensive and lengthy and that given the potentially significant impacts to transformer industry and specifically core steel selection, more time is needed to fully understand the impact to Cleveland-Cliffs' customer base and their business. (Cleveland-Cliffs, No. 44 at p. 1) ²

² The parenthetical reference provides a reference for information located in DOE's rulemaking docket. (Docket No. EERE-2019-BT-STD-0018, which is maintained at www.regulations.gov/docket/EERE-2019-BT-STD-0018). The references are arranged as follows: (Commenter name, comment docket ID number, page of that document).

DOE has reviewed the requests and is reopening the comment period to allow additional time for interested parties to submit comments. Therefore, DOE is reopening the comment period until December 10, 2021.

Signing Authority

This document of the Department of Energy was signed on November 9, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 10, 2021.
Treena V. Garrett,
Federal Register Liaison Officer, U.S. Department of Energy.

[FR Doc. 2021-24929 Filed 11-15-21; 8:45 am]

BILLING CODE 6450-01-P